FEDERAL MARITIME COMMISSION

[Docket No. 03-06]

Monarch Shipping Lines, Inc., American Lines LLC, Mozart Forwarding, Inc., and Peter Karouta Kennedy—Possible Violations of Sections 8(a), 10(b)(2)(A), and 19 of the Shipping Act of 1984, as well as the Commission's Regulations as 46 CFR pts. 515 and 520; Order of Investigation and Hearing

June 20, 2003.

Notice is given that on June 17, 2003, the Federal Maritime Commission served an Order of Investigation and Hearing on Monarch Shipping Lines, Inc., American Lines LLC, Mozart Forwarding, Inc., and Mr. Peter Karouta Kennedy. Monarch Shipping Lines, Inc. (“Monarch”), incorporated in the State of New York, holds itself out as a vessel-operating common carrier (“VOCC”) and Mr. Peter Karouta Kennedy is its owner and President. American Lines LLC (“American Lines”), a Connecticut corporation, holds itself out as a VOCC and is owned and operated by Mr. Peter Karouta Kennedy. Mozart Forwarding, Inc. (“Mozart”), a New York corporation, is a licensed ocean freight forwarder (FMC License No. 3486-R) and is also owned and operated by Mr. Peter Karouta Kennedy.

It appears that, from at least May 4, 2000, through August 15, 2000, Monarch knowingly and willfully operated as a common carrier without publishing a tariff. It appears that Monarch provided transportation services as a non-vessel-operating common carrier (“NVOCC”) with respect to shipments from May 4, 2000, through April 11, 2002, without obtaining an ocean transportation intermediary (“OTI”) license and without providing proof of financial responsibility in the form of a surety bond. It also appears, that from November 23, 2000, through December 23, 2000, Monarch processed at least 105 shipments for one of its customers and assessed and collected rates that were not the same as those set forth in its published tariff. American Lines appears to have operated as a common carrier without publishing a tariff from January 1, 2002, through June 13, 2002. Subsequent to the publication of its tariff, it appears that American Lines provided transportation services as an NVOCC without obtaining an OTI license and without providing proof of financial responsibility in the form of a surety bond. It appears that American Lines also failed to follow the rates and charges in its published tariff. Furthermore, it appears that Mozart and Peter Karouta Kennedy knowingly and willfully misled the Commission by failing to disclose required information on Mozart's pending FMC-18 application for an NVOCC license.

This proceeding therefore seeks to determine: (1) Whether Monarch and American Lines violated section 8(a) of the Shipping Act of 1984 (“1984 Act”) and 46 CFR pt. 520 by operating, for a certain period of time, without a tariff; (2) whether Monarch, American Lines, and Peter Karouta Kennedy violated section 10(b)(2) of the 1984 Act by providing service at rates and charges other than those specified in Monarch's and American Lines' tariffs; (3) whether Monarch, American Lines, and Peter Karouta Kennedy violated section 19 of the 1984 Act and the Commission's regulations at 46 CFR pt. 515 by operating as NVOCCs without obtaining licenses and without providing proof of financial responsibility in the form of surety bonds; (4) whether Mozart and Peter Karouta Kennedy violated the Commission's regulation at 46 CFR pt. 515 by their failure to disclose required information of the FMC-18 application; (5) whether, in the event violations of sections 8(a) 10(b)(2)(A), and 19 of the 1984 Act and/or 46 CFR pts. 515 and 520 are found, civil penalties should be and assessed and, if so, the amount; (6) whether, in the event violations of section 10(b)(2)(A) of the 1984 Act are found, the tariffs of Monarch and American Lines should be suspended; (7) whether the OTI license of Mozart should be suspended or revoked pursuant to section 19 of the 1984 Act, and (8) whether, in the event violations are found, and appropriate cease and desist order should be issued.

The full text of the Order may be viewed on the Commission's Home page at: http//www.fmc.gov or at the Office of the Secretary, Room 1046, 800 N. Capitol Street, NW, Washington, DC. Any person may file a petition for leave to intervene in accordance with 46 CFR 502.72.

Bryant L. VanBrakle,
Secretary.

[FR Doc. 03-16098 Filed 6-24-03; 8:45 am]

BILLING CODE 6730-01-P